DEPARTMENT OF COMMERCE

International Trade Administration

[A-533-840]

Certain Frozen Warmwater Shrimp From India: Notice of Correction to the Final Results of the 2012-2013 Antidumping Duty Administrative Review

AGENCY: Enforcement and Compliance, International Trade Administration, Department of Commerce.

FOR FURTHER INFORMATION CONTACT: Stephen Banea, Enforcement and Compliance, International Trade Administration, U.S. Department of Commerce, 14th Street and Constitution Avenue NW., Washington, DC 20230; telephone: (202) 482-0656.

SUPPLEMENTARY INFORMATION:

On August 28, 2014, the Department of Commerce (the Department) published in the Federal Register, the final results of the 2012-2013 administrative review of the antidumping duty order on certain frozen warmwater shrimp from India.¹ The period of review is February 1, 2012, through January 31, 2013. The published Federal Register notice omitted the names of two companies that were covered by this administrative review: Satya Seafoods Private Limited (Satya) and Usha Seafoods (Usha). Both of these companies, which were listed in the Initiation Notice ² for this administrative review, are affiliated with Devi Fisheries Limited (Devi Fisheries) as part of the Devi Fisheries Group.³ Therefore, the cash deposit and assessment rates calculated for Devi Fisheries in the Final Results apply equally to Satya and Usha. As a result, we now correct the final results of the 2012-2013 administrative review as noted above.

¹ See Certain Frozen Warmwater Shrimp from India: Final Results of Antidumping Duty Administrative Review; 2012-2013, 79 FR 51309 (Aug. 28, 2014) (Final Results).

² See Certain Frozen Warmwater Shrimp from India and Thailand: Notice of Initiation of Antidumping Duty Administrative Reviews, 78 FR 19639 (Apr. 2, 2013) (Initiation Notice).

³ The Department collapsed Devi Fisheries, Satya and Usha during the 2011-2012 administrative review. See e.g., Certain Frozen Warmwater Shrimp from India; Preliminary Results of Antidumping Duty Administrative Review; 2011-2012, 78 FR 15691 (Mar. 12, 2013), unchanged in Certain Frozen Warmwater Shrimp from India: Final Results of Antidumping Duty Administrative Review and Final No Shipment Determination; 2011-2012, 78 FR 42492 (July 16, 2013). Devi Fisheries therefore reported Satya's and Usha's sales as affiliated sales in the 2012-2013 administrative review.

This correction to the final results of administrative review is issued and published in accordance with sections 751(a)(1) and 777(i)(1) of the Tariff Act of 1930, as amended.

Dated: September 10, 2014.
Paul Piquado,
Assistant Secretary for Enforcement and Compliance.

[FR Doc. 2014-22074 Filed 9-15-14; 8:45 am]

BILLING CODE 3510-DS-P